DEPARTMENT OF THE INTERIOR

National Park Service

[NPS-PWR-PWRO-03-15-6965; 8400-0001-M7G]

Warner Valley Comprehensive Site Plan/Environmental Impact Statement, Lassen Volcanic National Park, Plumas County, CA

AGENCY: National Park Service, Interior.

ACTION: Notice of Approval of Record of Decision for the Warner Valley Comprehensive Site Plan, Lassen Volcanic National Park.

SUMMARY: Pursuant to § 102(2)(C) of the National Environmental Policy Act of 1969 (Pub. L. 91-190, as amended) and the regulations promulgated by the Council on Environmental Quality (40 CFR 1505.2), the Department of the Interior, National Park Service (NPS) has prepared and approved a Record of Decision for the Final Environmental Impact Statement for the Warner Valley Comprehensive Site Plan (CSP) in Lassen Volcanic National Park. The requisite no-action “wait period” was initiated September 24, 2010, with the Environmental Protection Agency's Federal Register notification of the filing of the Final EIS.

Decision: As soon as practical the NPS will begin to implement the first phase of restoration work identified in the CSP, including incrementional lowering and removal of Dream Lake Dam, rehabilitation of drainage ditches in Drakesbad Meadow, and propagation of plant materials derived from local native species for use in revegetation. Other key project elements include rehabilitation or repair of compatible facilities in Drakesbad Guest Ranch historic district, and removal of non-conforming structures. Consolidation of concession housing (tent cabins) and services outside the core of the historic district will occur.

This approved CSP was identified and analyzed as the agency-preferred Alternative 2 in the Final EIS (and includes no substantive modifications from the course of action that was described in the Draft EIS). The full ranges of foreseeable environmental consequences were assessed, and appropriate mitigation measures are incorporated in the approved plan. Both a No Action alternative and an additional “action” alternative were also identified and analyzed. As documented in the Draft and Final EIS, the selected alternative was deemed to be the “environmentally preferred” course of action.

Copies: Interested parties desiring to review the Record of Decision may obtain a copy by contacting the Superintendent, Lassen Volcanic National Park, P.O. Box 100, Mineral, CA 96063-0100 or via telephone request at (530) 595-4444.

Dated: March 11, 2011.
Christine S. Lehnertz,
Regional Director, Pacific West Region.

[FR Doc. 2011-10041 Filed 4-25-11; 8:45 am]

BILLING CODE 4312-GD-P